DEPARTMENT OF AGRICULTURE

Agricultural Marketing Service

[Doc. #CN-02-003]

Advisory Committee on Universal Cotton Standards; Meeting

AGENCY: Agricultural Marketing Service, USDA.

ACTION: Notice of meeting.

SUMMARY: In accordance with the Federal Advisory Committee Act, as amended, the Agricultural Marketing Service (AMS) announces a forthcoming meeting of the Advisory Committee on Universal Cotton Standards.

DATES: The meeting dates are: June 13, 2002, at 9 a.m. to 5 p.m., Memphis, Tennessee. June 14, 2002, at 9 a.m. until the review is complete, Memphis, Tennessee.

ADDRESSES: The meeting locations are: June 13 at Peabody Hotel, 149 Union Avenue, Memphis, Tennessee 38103. June 14 at USDA, AMS, Cotton Programs offices at 3275 Applying Road, Memphis, Tennessee 38133. The meeting is open to the public.

FOR FURTHER INFORMATION CONTACT: Mail comments to James Knowlton, Standardization and Engineering Branch, Cotton Programs, AMS, USDA, 3275 Applying Road Memphis, Tennessee 38133, or send comments by electronic mail to: james.knowlton@usda.gov.

SUPPLEMENTARY INFORMATION: The committee includes representatives of all segments of the U.S. cotton industry and the twenty-four overseas associations that are signatories to the Universal Cotton Standards Agreement, which is authorized under the United States Cotton Standards Act (7 U.S.C. 51-65). The purpose of the meeting is for the Committee to review the American Upland Cotton Standards, which are prepared by the United States Department of Agriculture (USDA), and to make recommendations to USDA concerning establishment and revision of the standards. The marketing of U.S. cotton is supported and enhanced through the committee's participation in the development of standards for U.S. Upland Cotton.

Thursday June 13, 2002, at 9 a.m. with opening remarks and introductions the Advisory Committee convenes and the standards review and approval process is initiated. Friday June 14, 2002, at 9 a.m. the Committee reconvenes for the drawing of sets for the Arbitration Boards, discussion of proposals, and concludes the matching and approval process of remaining universal standards.

Dated: May 20, 2002.
Kenneth C. Clayton,
Acting Administrator, Agricultural Marketing Service.

[FR Doc. 02-13123 Filed 5-23-02; 8:45 am]

BILLING CODE 3410-02-M